ENVIRONMENTAL PROTECTION AGENCY

[FRL-8570-4]

National Environmental Justice Advisory Council; Notification of Public Meeting and Public Comment

AGENCY: Environmental Protection Agency.

ACTION: Notification of Public Meeting.

SUMMARY: Pursuant to the Federal Advisory Committee Act (FACA), Public Law 92-463, the U.S. Environmental Protection Agency (EPA) hereby provides notice that the National Environmental Justice Advisory Council (NEJAC) will meet on the dates and times described below. All meetings are open to the public. Members of the public are encouraged to provide comments relevant to the specific issues being considered by the NEJAC. For additional information about registering for public comment, please see SUPPLEMENTARY INFORMATION. Due to limited space, seating at the NEJAC meeting will be on a first-come basis.

DATES: The NEJAC meeting will convene Tuesday, June 10, 2008, from 1 p.m. to 9:30 p.m., and reconvene Wednesday, June 11, 2008, from 9 a.m. to 5 p.m., and Thursday, June 12, 2008, from 9 a.m. to 3 p.m. One public comment session relevant to the specific issues being considered by the NEJAC (see SUPPLEMENTARY INFORMATION) is scheduled for Tuesday evening, June 10, 2008, from 6:30 p.m. to 9:30 p.m. All noted times are Eastern Time. Members of the public who wish to participate in the public comment period are encouraged to pre-register by May 27, 2008.

ADDRESSES: The NEJAC committee meeting will be held at the Washington Court Hotel, 525 New Jersey Avenue, NW., Washington, DC, 20001, telephone 202-628-2100.

FOR FURTHER INFORMATION CONTACT: Correspondence concerning the meeting should be sent to Ms. Victoria Robinson, NEJAC Program Manager, U.S. Environmental Protection Agency, at 1200 Pennsylvania Avenue, NW., (MC2201A), Washington, DC 20460; via e-mail at environmental-justice-epa@epa.gov; by telephone at (202) 564-6349; or by FAX at (202) 564-1624. Additional information about the meeting is available at the Internet Web site: http://www.epa.gov/compliance/environmentaljustice/nejac/meetings.html.

Pre-registration for all attendees is recommended. To register online, visit the Web site above. Requests for pre-registration forms should be sent to Ms. Julianne Pardi of ICF International at: 9300 Lee Highway, Fairfax, Virginia 22031; Telephone: (703) 934-3873; E-mail: jpardi@icfi.com, or FAX: (703) 934-3270. Hearing-impaired individuals or non-English speaking attendees wishing to arrange for a sign language or foreign language interpreter may make appropriate arrangements using these numbers also.

SUPPLEMENTARY INFORMATION: The Charter of the NEJAC states that the advisory committee shall provide independent advice to the Administrator on areas that may include, among other things, “advice about EPA's progress, quality and adequacy in planning, developing and implementing environmental justice strategies, projects and programs” relating to environment justice.

The meeting shall be used to receive comments, discuss, and provide recommendations regarding four major areas: (1) Nationally consistent environmental justice screening approaches; (2) strengthening strategic partnerships with State governments to addressing environmental justice concerns; (3) ways to enhance business opportunities and commitments to social and environmental responsibility through green business and sustainability; and (4) strategies to identify, mitigate, and/or otherwise address the disproportionate burden on communities of air pollution resulting from goods movement activities.

A. Public Comment: Individuals or groups making oral presentations during the public comment period will be limited to a total time of five minutes. Only one representative of a community, an organization, or a group will be allowed to speak. Any number of written comments can be submitted for the record. The suggested format for individuals making public comment should be as follows: Name of Speaker, Name of Organization/Community, Address/Telephone/E-mail, Description of Concern and its Relationship to the policy issue(s), and Recommendations or desired outcome. Written comments received by May 27, 2008 will be included in the materials distributed to the members of the NEJAC. Written comments received after that date will be provided to the NEJAC as logistics allow. All information should be sent to the address, e-mail, or fax number listed in the CONTACT section above.

B. Information about Services for the Handicapped: Individuals requiring special accommodations at this meeting, including wheelchair access to the conference room, should contact Ms. Julianne Pardi at least five business days prior to the meeting so that appropriate arrangements can be made to facilitate their participation. For information about facilities or services for the handicapped or to request special assistance at the meetings, contact Ms. Pardi as soon as possible. All requests should be sent to the address, e-mail, or fax number listed in the FOR FURTHER INFORMATION CONTACT section above.

Dated: May 16, 2008.
Charles Lee,
Designated Federal Officer, National Environmental Justice Advisory Council.

[FR Doc. E8-11610 Filed 5-22-08; 8:45 am]

BILLING CODE 6560-50-P